DEPARTMENT OF DEFENSE

Department of the Navy

Notice of Intent To Grant a Partially Exclusive License; Cobalt Technologies, Inc.

AGENCY: Department of the Navy, DoD.

ACTION: Notice.

SUMMARY: The Department of the Navy hereby gives notice of its intent to grant to Cobalt Technologies, Inc., a revocable, nonassignable, partially exclusive license in the United States to practice the Government-owned inventions described in the following: patent application 61/562231: Water and Contaminants Removal From Butanol Fermentation Solutions and/or Broths Using a Brine Solution, filed on November 21, 2011.//patent application 61/527943: Dehydration of Bio-Derived Alcohols to Alkenes Using Highly Selective Catalysts, filed on August 26, 2011.//patent application 12/511796: Diesel and Jet Fuels Based on the Oligomerization of 1-Butene, filed on July 29, 2009.//patent application 12/769757: Turbine and Diesel Fuels and Methods of Making the Same, filed on April 29, 2010.//patent application 13/095245: Selective Isomerization and Oligomerization of Olefin Feedstocks for the Production of Turbine and Diesel Fuels, filed on April 27, 2011.//patent application 13/095290: Selective Isomerization and Oligomerization of Olefin Feedstocks for the Production of Turbine and Diesel Fuels, filed on April 27, 2011.//patent application 13/095201: Selective Isomerization and Oligomerization of Olefin Feedstocks for the Production of Turbine and Diesel Fuels, filed on April 27, 2011.//patent application 61/585943: New Homogeneous Metallocene Ziegler-Natta Catalysts for the Oligomerization of Olefins in Aliphatic-Hydrocarbon Solvents, filed on January 12, 2012.

DATES: Anyone wishing to object to the grant of this license must file written objections along with supporting evidence, if any, not later than February 9, 2012.

ADDRESSES: Written objections are to be filed with the Office of Research and Technology Applications, Naval Air Warfare Center Weapons Division, Code 4L4000D, 1900 N. Knox Road Stop 6312, China Lake, CA 93555-6106.

FOR FURTHER INFORMATION CONTACT: Michael D. Seltzer, Ph.D., Office of Research and Technology Applications, Naval Air Warfare Center Weapons Division, Code 4L4000D, 1900 N. Knox Road Stop 6312, China Lake, CA 93555-6106, telephone (760) 939-1074, email: michael.seltzer@navy.mil.

Authority: 35 U.S.C. 207, 37 CFR part 404.

Dated: January 18, 2012.
J.M. Beal,
Lieutenant Commander, Office of the Judge Advocate General, U.S. Navy, Federal Register Liaison Officer.

[FR Doc. 2012-1454 Filed 1-24-12; 8:45 am]

BILLING CODE 3810-FF-P